DEPARTMENT OF ENERGY

Federal Energy Regulatory Commission

Combined Notice Of Filings #1

Take notice that the Commission received the following exempt wholesale generator filings:

Docket Numbers: EG16-53-000.

Applicants: Comanche Solar PV, LLC.

Description: Notice of Self-Certification of Exempt Wholesale Generator Status of Comanche Solar PV, LLC.

Filed Date: 2/9/16.

Accession Number: 20160209-5208.

Comments Due: 5 p.m. ET 3/1/16.

Take notice that the Commission received the following electric rate filings:

Docket Numbers: ER13-1942-002.

Applicants: New York Independent System Operator, Inc.

Description: Compliance filing: Compliance filing to remove rejected language for ministerial purpose to be effective 1/1/2013.

Filed Date: 2/9/16.

Accession Number: 20160209-5241.

Comments Due: 5 p.m. ET 3/1/16.

Docket Numbers: ER15-1333-003.

Applicants: Waverly Wind Farm LLC.

Description: Notice of Non-Material Change in Status of Waverly Wind Farm LLC.

Filed Date: 2/9/16.

Accession Number: 20160209-5256.

Comments Due: 5 p.m. ET 3/1/16.

Docket Numbers: ER15-2239-002.

Applicants: NextEra Energy Transmission West, LLC.

Description: Compliance filing: NextEra Energy Transmission West, LLC Compliance Filing to be effective 10/20/2015.

Filed Date: 2/9/16.

Accession Number: 20160209-5233.

Comments Due: 5 p.m. ET 3/1/16.

Docket Numbers: ER16-584-002.

Applicants: Otter Tail Power Company.

Description: Tariff Amendment: Amendment to BDRA and Request for Shortened Comment Period to be effective 12/19/2015.

Filed Date: 2/9/16.

Accession Number: 20160209-5231.

Comments Due: 5 p.m. ET 2/16/16.

Docket Numbers: ER16-915-000.

Applicants: Comanche Solar PV, LLC.

Description: Baseline eTariff Filing: Application for Market-Based Rate Authorization to be effective 3/25/2016.

Filed Date: 2/9/16.

Accession Number: 20160209-5197.

Comments Due: 5 p.m. ET 3/1/16.

Docket Numbers: ER16-916-000.

Applicants: TransCanada Power Marketing Ltd.

Description: Compliance filing: Notice of Succession to be effective 2/1/2016.

Filed Date: 2/9/16.

Accession Number: 20160209-5240.

Comments Due: 5 p.m. ET 3/1/16.

Docket Numbers: ER16-917-000.

Applicants: TC Ironwood LLC.

Description: Compliance filing: Notice of Succession to be effective 2/1/2016.

Filed Date: 2/9/16.

Accession Number: 20160209-5242.

Comments Due: 5 p.m. ET 3/1/16.

Docket Numbers: ER16-918-000.

Applicants: Rhode Island State Energy Center, LP.

Description: Compliance filing: Notice of Succession to be effective 1/28/2016.

Filed Date: 2/10/16.

Accession Number: 20160210-5025.

Comments Due: 5 p.m. ET 3/2/16.

Docket Numbers: ER16-919-000.

Applicants: Montana Generation, LLC.

Description: Tariff Cancellation: Notice of Cancellation of Market-Based Rate Tariff to be effective 2/11/2016.

Filed Date: 2/10/16.

Accession Number: 20160210-5037.

Comments Due: 5 p.m. ET 3/2/16.

Docket Numbers: ER16-920-000.

Applicants: Southwestern Public Service Company.

Description: Compliance filing: 2-10-16_ER13-1455 Comp Filing to be effective 1/1/2012.

Filed Date: 2/10/16.

Accession Number: 20160210-5050.

Comments Due: 5 p.m. ET 3/2/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 10, 2016.
Nathaniel J. Davis, Sr.,
Deputy Secretary.

[FR Doc. 2016-03319 Filed 2-18-16; 8:45 am]

BILLING CODE 6717-01-P